DEPARTMENT OF EDUCATION

[CFDA No.: 84.017A]

Office of Postsecondary Education, International Research and Studies Program; Notice Inviting Applications for New Awards for Fiscal Year (FY) 2001

Purpose of Program: The International Research and Studies Program provides grants to conduct research and studies to improve and strengthen instruction in modern foreign languages, area studies, and other international fields to provide full understanding of places in which the foreign languages are commonly used.

Eligible Applicants: Public and private agencies, organizations and institutions, and individuals.

Deadline for Transmittal of Applications: November 6, 2000.

Applications Available: September 8, 2000.

Available Funds: $626,739. The estimated amount of funds available for new awards under this competition is based on the Administration's request for this program for FY 2001. The actual level of funding, if any, is contingent on final congressional action.

Estimated Range of Awards: $50,000-$150,000 per year.

Estimated Average Size of Awards: $104,457 per year.

Estimated Number of Awards: 6.

Note: The Department is not bound by any estimates in this notice.

Project Period: Up to 36 months.

Applicable Regulations: (a) The Education Department, General Administrative Regulations (EDGAR) in 34 CFR parts 74, 75, 77, 80, 82, 85, 86, 97, 98, and 99; and (b) the regulations for this program in 34 CFR parts 655 and 660.

For Applications or Information Contact: Jose L. Martinez, International Research and Studies Program, U.S. Department of Education, International Education and Graduate Programs Service, 1990 K Street NW, Suite 600, Washington, DC 20006-8521. Telephone: (202) 502-7635. The email address for Mr. Martinez is:

jose_martinez@ed.gov.

Individuals who use a telecommunications device for the deaf (TDD) may call the Federal Information Relay Service (FIRS) at 1-800-877-8339.

Individuals with disabilities may obtain this document in an alternate format (e.g., Braille, large print, audiotape, or computer diskette) on request to the appropriate contact person listed in the preceding paragraph. However, the Department is not able to reproduce in an alternate format the standard forms included in the application package.

Electronic Access to This Document

You may view this document, as well as all other Department of Education documents published in the Federal Register, in text or Portable Document Format (PDF) on the Internet at either of the following sites:

http://ocfo.ed.gov/fedreg.htm

http://www.ed.gov/news.html

To use PDF you must have Adobe Acrobat Reader which is available free at either of the previous sites. If you have any questions about using the PDF, call the U.S. Government Printing Office (GPO) toll free, at 1-888-293-6498; or in the Washington, DC area, at (202) 512-1530.

Note: The official version of this document is the document published in the Federal Register. Free Internet access to the official edition of the Federal Register and the Code of Federal Regulations is available on GPO Access at: http://www.access.gpo.gov/nara/index.html.

Program Authority: 20 U.S.C. 1125.

Dated: August 11, 2000.
Claudio R. Prieto,
Acting Assistant Secretary, Office of Postsecondary Education.

[FR Doc. 00-20811 Filed 8-15-00; 8:45 am]

BILLING CODE 4000-01-P